FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding dates shown below:

License Number: 16629N.

Name: Cargomania International, Inc.

Address: 161-15 Rockaway Blvd., Suite 102, Jamaica, NY 11434.

Date Revoked: March 15, 2001.

Reason: Failed to maintain a valid bond.

License Number: 13141N.

Name: North Star Airlines, Inc. d/b/a North Star Ocean Services.

Address: Cargo Bldg., 68 JFK International Airport, Jamaica, NY 11430.

Date Revoked: March 17, 2001.

Reason: Failed to maintain a valid bond.

Sandra L. Kusumoto,
Director, Bureau of Consumer Complaints and Licensing.

[FR Doc. 01-10288 Filed 4-25-01; 8:45 am]

BILLING CODE 6730-01-P